DEPARTMENT OF DEFENSE

Office of the Secretary

[Docket ID: DOD-2009-OS-0065]

Privacy Act of 1974; System of Records

AGENCY: Defense Logistics Agency, DoD.

ACTION: Notice to Amend a System of Records.

SUMMARY: The Defense Logistics Agency is proposing to amend a system of records notice in its existing inventory of record systems subject to the Privacy Act of 1974 (5 U.S.C. 552a), as amended.

DATES: The proposed action will be effective without further notice on June 15, 2009 unless comments are received which would result in a contrary determination.

ADDRESSES: Chief Privacy and FOIA Officer, Headquarters Defense Logistics Agency, ATTN: DGA, 8725 John J. Kingman Road, Suite 1644, Fort Belvoir, VA 22060-6221.

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of new or altered systems reports.

Dated: May 12, 2009.
Morgan E. Frazier,
Alternate OSD Federal Register Liaison Officer, Department of Defense.

S500.50

System name:

Facility Access Records (November 23, 2005, 70 FR 70796).

Changes:

* * * * *

System location:

Delete entry and replace with “Staff Director, Public Safety, Headquarters Defense Logistics Agency, ATTN: DES-S, 8725 John J. Kingman Road, Stop 6220, Fort Belvoir, VA 22060-6221, and the Defense Logistics Agency field activities. Official mailing addresses are published as an appendix to DLA's compilation of systems of records notices.”

* * * * *

Storage:

Delete entry and replace with “Records are maintained in paper file folders and on electronic storage media.”

* * * * *

Safeguards:

Delete entry and replace with “Records are maintained in areas accessible only to DLA Headquarters, field activities security supervisory, and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.”

* * * * *

System manager(s) and address:

Delete entry and replace with “Chief, Security Operations Divisions, Office of Public Safety, Headquarters, Defense Logistics Agency, 8725 John J. Kingman Road, Suite 3533, Fort Belvoir, VA 22060-6220, and the Security Managers within the DLA field activity responsible for the operation of security forces and staff at the DLA field activity.”

Notification procedure:

Delete entry and replace with “Individuals seeking to determine whether this system of records contains information about them should address written inquiries to the Privacy Act Office, Headquarters, Defense Logistics Agency, ATTN: DGA, 8725 John J. Kingman Road, Suite 1644, Fort Belvoir, VA 22060-6221 or the Privacy Act Office of the DLA field activity involved. Official mailing addresses are published as an appendix to DLA's compilation of systems of records notices.”

Written requests for information should contain name, Social Security Number (SSN), mailing address and telephone number.”

Record access procedures:

Delete entry and replace with “Individuals seeking to access records about themselves contained in this system of records should address written inquiries to the Privacy Act Office, Headquarters, Defense Logistics Agency, ATTN: DGA, 8725 John J. Kingman Road, Suite 1644, Fort Belvoir, VA 22060-6221 or the Privacy Act Office of the DLA field activity involved. Official mailing addresses are published as an appendix to DLA's compilation of systems of records notices.

Written requests for information should contain name, Social Security Number (SSN), mailing address and telephone number.”

Contesting record procedures:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

* * * * *

S500.50

System name:

Facility Access Records.

System location:

Staff Director, Public Safety, Headquarters Defense Logistics Agency, ATTN: DES-S, 8725 John J. Kingman Road, Stop 6220, Fort Belvoir, VA 22060-6221, and the Defense Logistics Agency field activities. Official mailing addresses are published as an appendix to DLA's compilation of systems of records notices.

Categories of individuals covered by the system:

Defense Logistics Agency (DLA) civilian and military personnel, contractor employees, and individuals requiring access to DLA-controlled installations or facilities. The system also contains data on children of civilian employees, military personnel, and contractors where the parents have requested that a child identification badge be issued.

Categories of records in the system:

The system contains documents relating to requests for and issuance of facility entry badges and passes and motor vehicle registration. The records contain individual's name; Social Security Number; physical and electronic duty addresses; physical and electronic home addresses; duty and home telephone numbers; emergency-essential status; date and place of birth; citizenship; badge number, type of badge, and issue and expiration dates; facility identification and user codes and dates and times of building entry; current photograph; physical descriptors such as height, hair and eye color; blood type; fingerprint data; handicap data; security clearance data; personal vehicle description to include year, make, model, and vehicle identification number; State tag data; operator's permit data; inspection and insurance data; vehicle decal number, parking lot assignment; parking infractions; the fact of participation in mass transit programs; emergency contact data; and names of children registered at DLA child development centers.

Authority for maintenance of the system:

5 U.S.C. 301, Departmental Regulations, 5 U.S.C. 6122, Flexible schedules, agencies authorized to use; 5 U.S.C. 6125, Flexible schedules, time recording devices; 10 U.S.C. 133, Under Secretary of Defense for Acquisition, Technology, and Logistics; 23 U.S.C. 401 et seq., National Highway Safety Act of 1966; E.O. 9397 (SSN); and E.O. 10450, Security Requirements for Government Employees.

Purpose(s):

Information is maintained by DLA police and public safety personnel is used to control access into DLA-managed installations, buildings, facilities, and parking lots; to manage reserved, handicap and general parking; to verify security clearance status of individuals requiring entry into restricted access areas; to account for building occupants and to effect efficient evacuation during simulated and actual threat conditions; to relay threat situations and conditions to DoD law enforcement officials for investigative or evaluative purposes; and to notify emergency contact points of situations affecting a member of the workforce. Names of children registered at DLA child care centers are collected to notify the caregivers of emergencies affecting parents and to identify the children who may require special accommodations due to that emergency. In support of morale programs and when requested by parents, critical descriptive data and a current photograph of their child are captured for parental use should a child go missing.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” set forth at the beginning of DLA's compilation of systems of records notices apply to this system except for information collected on children.

Policies and practices for storing, retrieving, accessing, retaining, and disposing of records:

Storage:

Records are maintained in paper file folders and on electronic storage media.

Retrievability:

Retrieved by name, Social Security Number, facility or user code, or decal number.

Safeguards:

Records are maintained in areas accessible only to DLA Headquarters, field activities security supervisory, and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.

Retention and disposal:

Vehicle registration records are destroyed when superseded or upon normal expiration or 3 years after revocation; individual badging and pass records are destroyed upon cancellation or expiration or 5 years after final action to bar from facility.

System manager(s) and address:

Chief, Security Operations Divisions, Office of Public Safety, Headquarters, Defense Logistics Agency, 8725 John J. Kingman Road, Suite 3533, Fort Belvoir, VA 22060-6220, and the Security Managers within the DLA Field Activity responsible for the operation of security forces and staff at the DLA field activity.

Notification procedure:

Individuals seeking to determine whether this system of records contains information about them should address written inquiries to the Privacy Act Office, Headquarters, Defense Logistics Agency, ATTN: DGA, 8725 John J. Kingman Road, Suite 1644, Fort Belvoir, VA 22060-6221 or the Privacy Act Office of the DLA Field Activity involved. Official mailing addresses are published as an appendix to DLA's compilation of systems of records notices.

Written requests for information should contain name, Social Security Number (SSN), mailing address and telephone number.

Record access procedures:

Individuals seeking to access records about themselves contained in this system of records should address written inquiries to the Privacy Act Office, Headquarters, Defense Logistics Agency, ATTN: DGA, 8725 John J. Kingman Road, Suite 1644, Fort Belvoir, VA 22060-6221 or the Privacy Act Office of the DLA field activity involved. Official mailing addresses are published as an appendix to DLA's compilation of systems of records notices.

Written requests for information should contain name, Social Security Number (SSN), mailing address and telephone number.

Contesting record procedures:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

Record source categories:

Data is supplied by the individual and public safety personnel. Data for child identification badges is provided by the parent.

Exemptions claimed for the system:

None.

[FR Doc. E9-11354 Filed 5-14-09; 8:45 am]

BILLING CODE 5001-06-P